DEPARTMENT OF AGRICULTURE

Forest Service

Paulina Ranger District; Ochoco National Forest; Crook and Wheeler Counties, OR; Jackson Vegetation Management Project EIS

AGENCY: Forest Service, USDA.

ACTION: Notice of Intent to prepare an environmental impact statement.

SUMMARY: The USDA Forest Service is proposing to prepare an environmental impact statement (EIS) on a proposed action to improve forest health and fuel conditions within the approximate 55,430-acre Jackson project area. The project area is located approximately 60 miles to the east of Prineville, Oregon and is bounded by Forest System Roads 2630, 12, and 42 to the north, east and south respectively, and by the western watershed divide between Crazy Creek (east) and Porter, Looney, and Stupid Creeks (west). The project area encompasses National Forest system lands and private lands within these watersheds.

An analysis has been initiated that takes a landscape approach to managing the vegetation to meet objectives for fuels and fire behavior and to create a more resilient forest while addressing and considering other resources. Methods that would be used to reduce tree density and hazardous fuels are: non-commercial and commercial thinning, and prescribed burning. The alternatives will include the proposed action, no action, and, if necessary, additional alternatives that respond to issues generated through the scoping process. The agency will give notice of the full environmental analysis and decision-making process so that interested and affected public may participate and contribute to the final decision.

DATES: Comments concerning the scope of the analysis must be received by 30 days following the date that this notice appears in the Federal Register.

ADDRESSES: Send written comments to Sandra Henning, District Ranger, Paulina Ranger District, Ochoco National Forest 3160 NE. 3rd Street, Prineville, OR 97754.

FOR FURTHER INFORMATION CONTACT: Kathy Roche, Environmental Coordinator, Ochoco National Forest, Paulina Ranger District, 3160 N.E. 3rd Street, Prineville, OR 97754, phone (541) 416-6436.

Responsible Official: The responsible official is Jeff Walter, Forest Supervisor, Ochoco National Forest, 3160 NE 3rd Street, Prineville, OR 97754.

SUPPLEMENTARY INFORMATION: Background. The Paulina Ranger District has demonstrated that there is a need for fuels and vegetation management activities in the project area by comparing the existing condition to the desired conditions described in the Ochoco National Forest Land and Resource Management Plan. The existing condition of the Deep watershed was evaluated in 2010 and documented in the Deep Watershed Analysis.

Purpose and Need. This project is needed to maintain the project area in a healthy condition as described by the Ochoco National Forest Land and Resource Management Plan of 1989 as amended by the Revised Interim Management Direction Establishing Riparian, Ecosystem and Wildlife Standards for Timber Sales (Eastside Screens). The Watershed Analysis identified that there is a shortage of large trees, late and old structure forest; Stream temperatures are too high and there is a shortage of large woody debris and hardwood plant species within Riparian Habitat Conservation Areas; there is encroachment of western juniper into forest, grasslands and shrublands; there is an increasing presence of insects and diseases in forest stands; aspen clones are declining in vigor and contain decadent overstory trees and few to no seedlings, there are varying amounts of conifers present and the aspen sprout/seedling component is unable to grow above the browse line; about 42% of the watershed is in Fire Regime Condition Class of 2 or 3 where fire has been absent for more than 15 years and there is an increasing amount of departure from the natural fire regime with areas where juniper and pine have encroached on shrub and grass communities from fire exclusion; stand density and forest fuels adjacent to arterial Forest roads do not provide conditions for safe ingress and egress for public and fire fighter access in the event of wildfire; the forest stands in the project area have the potential to provide wood products.

This project is needed to maintain the vegetation within the project area in a condition as described by the Ochoco National Forest Land and Resource Management Plan of 1989 as amended by the Revised Interim Management Direction Establishing Riparian, Ecosystem and Wildlife Standards for Timber Sales (Eastside Screens). This project is needed to promote the development of large trees and old structure forest by reducing stand density; promote the development of large trees for eventual woody debris recruitment into streams by reducing conifer stand densities mechanically and by fire and promote the development of stream shading vegetation, such as willow by reducing conifers, mechanically and by fire, and increase willow and other hardwood vegetation by planting with Riparian Habitat Conservation Areas (RHCAs); reduce juniper encroachment into forest, shrub and grass communities by mechanical and fire treatments; restore and enhance aspen stands by reducing conifer competition and encroachment, fencing and planting; reduce the risk of bark beetles and impacts of mistletoe by reducing stand density and tree canopy layers through mechanical treatments; change stand structure and tree canopy closure to create conditions that support low intensity, frequent fire regimes, reduce suppression costs, and provide for fire fighter safety through mechanical and fire treatments; reduce stand density and forest fuels adjacent to arterial Forest roads to increase safe ingress and egress for public and fire fighter access in the event of wildfire both mechanically and through fire treatments; reintroduce fire to reduce the departure from the natural fire regime and to reduce juniper and pine where they have encroached on shrub and grass communities and provide wood products for public needs and for the health of local and regional economies.

Proposed Action. To meet the project need, the Paulina Ranger District is proposing to thin approximately 6,700 acres through commercial timber harvest methods and 3,200 acres through non-commercial means. Commercial harvest methods would include the use of tractors on most units (approximately 5,300 acres). Areas identified as tractor logging are areas where equipment, such as tractors/skidders, would be used to remove a commercial product. Logging systems are still to be determined for approximately 1,500 acres. Providing wood products will include removing some standing dead wood (snags) as firewood. This will focus on stands of lodgepole pine with existing mortality from insect infestation.

Excessive fuel from management activities in this project and past projects would be reduced on approximately 7,800 acres through the use of prescribed fire. Fire would also be used to maintain low intensity fuel levels and reduce juniper on approximately 7,900 acres. Other areas of juniper encroachment are proposed for mechanical removal. An area of reduced stand density and fuel would be created in forest stands and other areas along each side of Forest system roads 12, 30, 42 and 2630 to provide for public and firefighter safety in the event of wildfire in this area.

It is anticipated that some additional roads would be needed to complete management activities. Whether any of these roads will be system roads and whether any will remain open after the project is completed will be determined during the analysis of the proposed action and any alternatives that are developed. Similarly, whether any roads reopened during this project will remain open will be determined during the analysis. The project proposes to use and enlarge a rock pit near Younger Springs. The rock would be used in construction, reconstruction and maintenance for roads associated with implementation of proposed management actions and to increase attainment of riparian of management objectives for inland native fish. The need for other road construction, reconstruction and maintenance will be determined in the further development of proposed action and in any alternatives. Project design elements and site-specific mitigation measures will be developed during the analysis of individual activity areas for each alternative. The project design features and/or mitigation measures may include operating restrictions, mechanical reduction of soil density (subsoiling) on ground based logging units after harvest, weed control and monitoring. Within the Jackson project area, other projects are being implemented or are in the planning stage. The Deep Creek Watershed Restoration Environmental Assessment (2004) is presently being implemented. This project includes a variety of activities, including stream headcut repair, culvert replacement, and road closure and decommissioning. The Ochoco Summit PHV Trail Analysis Area is presently in the planning stage. As a part of that OHV project, designated motorized trails would be provided throughout the project area.

Issues. Issues will be identified based on public comments.

Comment. Public comments regarding this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision in accordance with 36 CFR parts 215 and 217.

A draft EIS will be filed with the Environmental Protection Agency (EPA) and is scheduled to be available for public review by May 2011. The EPA will publish a Notice of Availability (NOA) of the draft EIS in the Federal Register. The comment period on the draft EIS will be 45 days from the date the EPA publishes the notice of availability in the Federal Register. The final EIS is scheduled to be available August 2011.

Dated: October 29, 2010.
Jeff Walter,
Forest Supervisor, Ochoco National Forest.

[FR Doc. 2010-27976 Filed 11-4-10; 8:45 am]

BILLING CODE 3410-11-P